DEPARTMENT OF HEALTH AND HUMAN SERVICES

Centers for Disease Control and Prevention

[Funding Opportunity Number: CE05-018]

Cooperative Agreement Program for the National Academic Centers of Excellence on Youth Violence Prevention; Notice of Availability of Funds-Amendment

A notice announcing the availability of fiscal year (FY) 2005 funds for cooperative agreements to to establish up to ten National Academic Centers of Excellence (ACE) on Youth Violence Prevention, serving as national models for the prevention of youth violence, was published in the Federal Register on November 22, 2004, Vol. 69, No. 224, pages 67915-67930.

The notice is amended as follows:

On page 67917, Column 3, Section IV.1. Address to Request application Package, delete the first sentence and replace with “To apply for this funding opportunity, use application form PHS 398 (OMB number 0925-0001 rev.

9/2004).

Dated: January 28, 2005.
William P. Nichols,
Director, Procurement and Grants Office, Centers for Disease Control and Prevention.

[FR Doc. 05-2044 Filed 2-2-05; 8:45 am]

BILLING CODE 4163-18-P